FEDERAL COMMUNICATIONS COMMISSION

47 CFR Part 73

[FCC 05-64; MM Docket No. 98-155; RM-9082, RM-9133]

Radio Broadcasting Services; Alva, Mooreland, Tishomingo, Tuttle and Woodward, OK

AGENCY: Federal Communications Commission, FCC.

ACTION: Final rule.

SUMMARY: This document grants an Application for Review filed by Chisholm Trail Broadcasting Co. directed to the earlier Memorandum Opinion and Order in this proceeding to the extent of setting aside three previous actions. See 67 FR 52876, August 14, 2002. Specifically, Channel 259C3 will now be allotted at Tishomingo, Oklahoma, Channel 259C1 will be allotted at Alva, Oklahoma, and Channel 261C1 will be allotted at Woodward, Oklahoma. The reference coordinates for the Channel 259C1 allotment at Alva, Oklahoma, are 36-35-41 and 98-15-38. The reference coordinates for the Channel 261C1 allotment at Woodward, Oklahoma, are 36-25-42 and 99-24-10. The reference coordinates for the Channel 259C3 allotment at Tishomingo, Oklahoma, are 34-21-34 and 96-33-34. With this action, the proceeding is terminated.

DATES: Effective May 9, 2005.

FOR FURTHER INFORMATION CONTACT: Robert Hayne, Media Bureau, (202) 418-2177.

SUPPLEMENTARY INFORMATION: This is a synopsis of the Memorandum Opinion and Order in MM Docket No. 98-155 adopted March 10, 2005, and released March 14, 2005. The full text of this decision is available for inspection and copying during normal business hours in the FCC Reference Information Center at Portals 11, CY-A257, 445 12th Street, SW., Washington, DC. The complete text of this decision may also be purchased from the Commission's copy contractor, Best Copy and Printing, Inc., 445 12th Street, SW., Room CY-B402, Washington, DC 20554, telephone 1-800-378-3160 or http://www.BCPIWEB.com. The Commission will not send a copy of this Memorandum Opinion and Order pursuant to the Congressional Review Act, see 5 U.S.C. 801(a)(1)(A), because the adopted rules are rules of particular applicability.

List of Subjects in 47 CFR Part 73

Radio, Radio Broadcasting.

Accordingly, 47 CFR Part 73 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under Oklahoma, is amended by removing Channel 260C1 and adding Channel 259C1 at Alva, by adding Tishomingo, Channel 259C3, by removing Tuttle, Channel 259C3, by removing Channel 292C1 and adding Channel 261C1 at Woodward.

Federal Communications Commission.
Marlene H. Dortch,
Secretary.

[FR Doc. 05-9289 Filed 5-6-05; 8:45 am]

BILLING CODE 6712-01-M